DEPARTMENT OF AGRICULTURE

Submission for OMB Review; Comment Request

February 10, 2011.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food and Nutrition Service

Title: Evaluation of the Impact of the Summer Electronic Benefits for Children Household-Based Demonstration on Food Insecurity.

OMB Control Number: 0584-NEW.

Summary of Collection: In the 2010 Agriculture Appropriations Act (Pub. L. 111-80), Section 749(g), Congress authorized demonstration projects to develop and test methods of providing access to food for low-income children in urban and rural areas during the summer months when schools are not in regular session, as well as a rigorous independent evaluation of the projects regarding their effectiveness. The data being collected under this submission are necessary to meet the Congressionally-mandated requirement for an independent evaluation of the Summer Electronic Benefit Transfer (SEBT) for Children Demonstration being conducted by the Food and Nutrition Service (FNS) under this authorizing legislation. The evaluation of these projects is intended to provide policymakers with clear, rigorous and timely findings to make decisions about potential changes to federal summer feeding programs during the next Child Nutrition reauthorization cycle.

Need and Use of the Information: The information gathered in the data collection activities will be used by FNS to determine if SEBT for children reduces the acute prevalence of very low food security among children during the summer months when most children are not in school; and to determine the feasibility and cost of implementing SEBT for children on a national scale. Without the information FNS will not have the data necessary to estimate program impacts on participating children, or to examine how the demonstration sites implemented SEBT for children, which will be used to produce the required report to Congress and inform future program decisions.

Description of Respondents: Individuals or household; State, Local or Tribal Government; Not-for-profit institutions.

Number of Respondents: 15,382.

Frequency of Responses: Reporting: Quarterly; Annually; Biennially.

Total Burden Hours: 15,974.

Ruth Brown,
Departmental Information Collection Clearance Officer.

[FR Doc. 2011-3443 Filed 2-15-11; 8:45 am]

BILLING CODE 3410-30-P